DEPARTMENT OF HOUSING AND URBAN DEVELOPMENT

Office of the Secretary

[Docket No. FR-4572-D-16]

Office of the Secretary—Housing-Federal Housing Commissioner; Delegation and Redelegation of Authority Under Section 203(d)(6) of the Federal Property and Administrative Services Act of 1949

AGENCY: Office of the Secretary, Office of Housing, HUD.

ACTION: Notice of delegation and redelegation of authority to recommend to the General Services Administration disposal of surplus real property, including buildings, fixtures and equipment situated thereon and to take all steps necessary, including fixing the sale or lease value, to sell or lease such property for the purpose of self-help housing, in accordance with Section 203(k)(6) of the Federal Property and Administrative Services Act of 1949 (40 U.S.C. 484(k)(6)) (FPASA).

SUMMARY: In this Notice, the Secretary delegates to the Assistant Secretary for Housing-Federal Housing Commissioner, who retains and redelegates this authority to the Director, Office of Single Family Assets Management, the authority under Section 203(d)(6) of FPASA to recommend to the General Services Administration disposal of surplus real property, including buildings, fixtures and equipment situated thereon and to take all steps necessary, including fixing the sale or lease value, to sell or lease such property of self-help housing.

EFFECTIVE DATE: January 12, 2001.

FOR FURTHER INFORMATION CONTACT: Director, Office of Single Family assets Management, Room 9162, Department of Housing and Urban Development, 451 Seventh Street SW., Washington, DC 20410. Telephone: (202) 708-1672. This is not a toll-free number. This number may be accessed via TTY by calling the Federal Information Relay Service at 1-800-877-8339.

SUPPLEMENTARY INFORMATION: Pub. Law 105-50 (Oct. 6, 1997) amended the Federal Property and Administrative Services Act of 1949 (40 U.S.C. 484) by adding section 203(k)(6), which authorizes the Secretary of HUD, in consultation with the Administrator of the General Services Administration, to dispose of surplus federal property to states, their political subdivisions or instrumentalities, and nonprofits for the purpose of providing self-help housing to low income individuals. These responsibilities are being delegated by the Secretary to the Assistant Secretary for Housing-Federal Housing Commissioner, who further redelegates them to the Director, Office of Single Family Assets Management.

Accordingly, the Secretary delegates, and the Assistant Secretary for Housing-Federal Housing Commissioner redelegates, authority as follows:

Section A. Authority Delegated and Redelegated

1. The authority of the Secretary under Section 203(k)(6) of the Federal Property and Administrative Services Act of 1949 (40 U.S.C. 484) to recommend surplus federal real property to the Administrator of the General Services Administration as needed for providing housing or housing assistance for low-income persons and to take all steps reasonably necessary to sell and lease surplus federal property for that purpose, including fixing sale or lease value, is hereby delegated to the Assistant Secretary for Housing-Federal Housing Commissioner, who retains this authority and redelegates it to the Director, Office of Single Family Assets Management.

Authority: Section 203(k)(6) of the Federal Property and Administrative Services Act of 1949 (40 U.S.C. 484(k)).

Dated: January 12, 2001.
Saul N. Ramirez, Jr.,
Deputy Secretary of Housing and Urban Development.
William C. Apgar,
Assistant Secretary for Housing-Federal Housing Commissioner, Department of Housing and Urban Development.

[FR Doc. 01-1706 Filed 1-19-01; 8:45 am]

BILLING CODE 4210-32-M